DEPARTMENT OF HEALTH AND HUMAN SERVICES

Centers for Disease Control and Prevention

Injury Research Grant Review Committee: Conference Call Meeting

In accordance with section 10(a)(2) of the Federal Advisory Committee Act (Pub. L. 92-463), the Centers for Disease Control and Prevention (CDC) announces the following conference call committee meeting.

Name: Injury Research Grant Review Committee (IRGRC).

Time and Date: 1 p.m.-1:30 p.m., December 19, 2000.

Place: National Center for Injury Prevention and Control (NCIPC), CDC, Koger Center, Vanderbilt Building, 1st Floor, Conference Room 1006, 2939 Flowers Road, South, Atlanta, Georgia 30341. (Exit Chamblee-Tucker Road off I-85.)

Status: Open: 1:00 p.m.-1:10 p.m., December 19, 2000;

Closed: 1:10 p.m.-1:30 p.m., December 19, 2000.

Purpose: This committee is charged with advising the Secretary of Health and Human Services, the Assistant Secretary for Health, and the Director, CDC, regarding the scientific merit and technical feasibility of grant applications received from academic institutions and other public and private profit and nonprofit organizations, including State and local government agencies, to conduct specific injury research that focuses on prevention and control and to support injury prevention research centers.

Matters To Be Discussed: Agenda items include the purpose of the meeting and discussion and vote on site visits to be conducted by IRGRC. Beginning at 1:10 p.m., through 1:30 p.m., December 19, the Committee will discuss and vote on the preliminary evaluation (triage) conducted by IRGRC to determine if a grant application submitted in response to Program Announcement #01007 is of sufficient scientific and technical merit to warrant further review by IRGRC. This portion of the meeting will be closed to the public in accordance with provisions set forth in section 552b(c)(4) and (6), title 5 U.S.C., and the Determination of the Associate Director for Management and Operations, CDC, pursuant to Pub. Law. 92-463.

This notice is published less than 15 days prior to the conference call due to administrative delay.

Agenda items are subject to change as priorities dictate.

Contact Person for More Information: Richard W. Sattin, M.D., Acting Executive Secretary, IRGRC, NCIPC, CDC, 4770 Buford Highway, NE, M/S K58, Atlanta, Georgia 30341-3724, telephone 770/488-4330.

The Director, Management Analysis and Services Office, has been delegated the authority to sign Federal Register Notices pertaining to announcements of meetings and other committee management activities, for both the Centers for Disease Control and Prevention and the Agency for Toxic Substances and Disease Registry.

Dated: November 30, 2000.
Julia M. Fuller,
Acting Director, Management Analysis and Services Office, Centers for Disease Control and Prevention.

[FR Doc. 00-30995 Filed 12-1-00; 11:39 am]

BILLING CODE 4163-18-P